DEPARTMENT OF ENERGY

Western Area Power Administration

Post-2010 Resource Pool, Pick-Sloan Missouri Basin Program—Eastern Division

AGENCY: Western Area Power Administration, DOE.

ACTION: Notice of proposed allocation.

SUMMARY: Western Area Power Administration (Western), Upper Great Plains Region, a Federal power marketing agency of the Department of Energy (DOE), hereby announces the Post-2010 Resource Pool Proposed Allocation of Power. The Energy Planning and Management Program (Program) provides for project-specific resource pools and allocating power from these pools to new preference customers and other appropriate purposes as determined by Western. Western, in accordance with the Program, is proposing an allocation of Federal power from the Pick-Sloan Missouri Basin Program—Eastern Division (P-SMBP—ED) beginning January 1, 2011. Western intends to use power previously returned to Western for this proposed allocation. Western will prepare and publish the Final Allocation of Power in the Federal Register after all public comments on the proposed allocation have been considered.

DATES: Entities interested in commenting on the proposed allocation of power must submit written comments to Western's Upper Great Plains Regional Office. Western must receive written and/or electronic comments by 4 p.m., MDT, on September 28, 2009. Western reserves the right to not consider any comments that are received after the prescribed date and time.

Western will hold a public information forum and a public comment forum (immediately following the information forum) on the proposed allocation of power. The public information and public comment forums will be held on September 17, 2009, at 9 a.m., CDT, in Sioux Falls, South Dakota.

ADDRESSES: Submit written comments regarding this proposed allocation of Western power to Robert J. Harris, Regional Manager, Upper Great Plains Region, Western Area Power Administration, 2900 4th Avenue North, Billings, MT 59101-1266. Comments on the proposed allocation may also be faxed to (406) 247-7408 or e-mailed to UGPPost2010@wapa.gov.

The public information and comment forums will be held at the Holiday Inn, 100 West 8th Street, Sioux Falls, South Dakota.

FOR FURTHER INFORMATION CONTACT: John A. Pankratz, Public Utilities Specialist, Upper Great Plains Region, Western Area Power Administration, 2900 4th Avenue North, Billings, MT 59101-1266, telephone (406) 247-7392, e-mail pankratz@wapa.gov.

SUPPLEMENTARY INFORMATION: In accordance with the Program, (60 FR 54151, October 20, 1995), Western published the proposed procedures and call for applications in the Federal Register on October 15, 2008 (73 FR 61109). Western held a public information and comment forum on November 20, 2008, to accept oral and written comments on the proposed procedures and call for applications. Applications for power were accepted at Western's Upper Great Plains Regional Office until close of business on January 13, 2009. On May 5, 2009, Western published the final procedures in the Federal Register (74 FR 20697). The proposed allocation of power published here is the result of applications received during the call for applications. Applications were subjected to the Final Post-2010 Resource Pool Allocation Procedures.

Past resource pools under the Program were established from withdrawals of power from existing customers. Subject to the size of the final allocation, Western does not intend to make a withdrawal of power from existing customers for the proposed Post-2010 Resource Pool allocation. Instead of withdrawal, Western, in accordance with 10 CFR 905.32(e)(2) of the Program, intends to use power previously placed under contract and subsequently returned to Western through termination of that contract (Returned Power) for this proposed allocation. The amount of Returned Power is sufficient for the proposed allocation; therefore, withdrawal from existing customers may not be required. Any Returned Power not used to establish the Post-2010 Resource Pool for the final allocation will continue to be used to reduce the need to acquire firming resources and other uses recognized under the Program.

Availability of Information

Documents developed or retained by Western in developing this Post-2010 Resource Pool will be available for inspection and copying at the Upper Great Plains Regional Office in Billings, Montana. Written comments received on the proposed allocation will be available for viewing at http://www.wapa.gov/ugp/Post2010/default.htm after the close of the comment period.

Proposed Allocation of Power

Western received four applications from entities interested in an allocation of power from the Post-2010 Resource Pool. Review of the applications indicated that three of the four applicants did not qualify under the Final Post-2010 Resource Pool Allocation Procedures. The proposed allocation of power for the new eligible customer was calculated using the Final Post-2010 Resource Pool Allocation Procedures. The proposed summer allocation is 24.84413 percent of peak summer load; the proposed winter allocation is 35.98853 percent of peak winter load as defined in the Post-1985 Marketing Plan criteria, under the Final Post-2010 Resource Pool Allocation Procedures. The proposed allocation of power for the new eligible customer and the load upon which this proposed allocation is based is as follows:

New customer | 2007 Summer Season peak load (kilowatts) | 2007 Winter Season peak load (kilowatts) | Proposed Post-2010 power allocation: Summer (kilowatts) | Proposed Post-2010 power allocation: Winter (kilowatts)
City of New Ulm, MN | 1,626 | 1,301 | 404 | 468

If the P-SMBP-ED marketable resource is adjusted in the future, the proposed allocation of power may be adjusted accordingly.

Entities interested in commenting on the proposed allocation of power must submit written comments to Western's Upper Great Plains Regional Office as described in the Addresses Section above or provide comments at the Public Comment Forum described in the Dates Section above. Western will respond to comments received on the proposed allocation of power and will publish its notice of final allocation following the end of the public comment period.

Post-2010 Resource Pool Procedures Requirements

Environmental Compliance

In compliance with the National Environmental Policy Act (NEPA) of 1969 (42 U.S.C. 4321-4347 (2007)); the Council on Environmental Quality Regulations for implementing NEPA (40 CFR parts 1500-1508); and DOE NEPA Implementing Procedures and Guidelines (10 CFR part 1021), Western has determined that this action is categorically excluded from further NEPA review.

Dated: July 22, 2009.
Timothy J. Meeks,
Administrator.

[FR Doc. E9-18073 Filed 7-28-09; 8:45 am]

BILLING CODE 6450-01-P